DEPARTMENT OF THE INTERIOR

Bureau of Indian Affairs

25 CFR Part 151

[K00103 12/13 A3A10; 134D0102DR-DS5A300000-DR.5A311.IA000113; Docket ID: BIA-2013-0005]

RIN 1076-AF15

Land Acquisitions: Appeals of Land Acquisition Decisions

AGENCY: Bureau of Indian Affairs, Interior.

ACTION: Proposed rule; Reopening of comment period.

SUMMARY: In May, the Bureau of Indian Affairs (BIA) published a proposed rule revising a section of regulations governing decisions by the Secretary to approve or deny applications to acquire land in trust. The public comment period for that rule closed in July. This notice reopens the comment period for 15 days.

DATES: Comments on the proposed rule published May 29, 2013 (78 FR 32214) must be received by September 3, 2013.

ADDRESSES: You may submit comments by any of the following methods, though the Federal rulemaking portal or email are the preferred methods:

—Federal rulemaking portal: http://www.regulations.gov. The rule is listed under the agency name “Bureau of Indian Affairs.” The rule has been assigned Docket ID: BIA-2013-0005.

—Email: consultation@bia.gov. Include the number 1076-AF15 in the subject line of the message.

—Mail or hand delivery: Elizabeth Appel, Office of Regulatory Affairs & Collaborative Action, U.S. Department of the Interior, 1849 C Street NW., MS-4141, Washington, DC 20240. Include the number 1076-AF15 in the submission.

We cannot ensure that comments received after the close of the comment period (see DATES) will be included in the docket for this rulemaking and considered. Comments sent to an address other than those listed above will not be included in the docket for this rulemaking.

FOR FURTHER INFORMATION CONTACT: Elizabeth Appel, Office of Regulatory Affairs & Collaborative Action, (202) 273-4680; elizabeth.appel@bia.gov.

SUPPLEMENTARY INFORMATION:

On May 29, 2013, BIA published a proposed rule revising 25 CFR 151.12 (78 FR 32214). The proposed rule would remove procedural requirements that are no longer necessary in light of the Patchak Supreme Court decision and increase transparency by better articulating the process for issuing decisions to acquire land in trust under 25 CFR part 151. The comment period for the proposed rule closed July 29, 2013. With this notice, BIA is reopening the comment period for an additional 15 days, in response to requests it received from commenters for additional time.

BIA will also consider any comments that it received between the close of the orginial comment period on July 29, 2013 and the reopening of the comment period on August 16, 2013. If you submitted comments during this period, there is no need to resubmit them.

Dated: August 9, 2013.
Kevin K. Washburn,
Assistant Secretary—Indian Affairs.

[FR Doc. 2013-19947 Filed 8-15-13; 8:45 am]

BILLING CODE 4310-6W-P